DEPARTMENT OF COMMERCE

International Trade Administration

[C-570-968]

Aluminum Extrusions From the People's Republic of China: Notice of Partial Rescission of Countervailing Duty Administrative Review

AGENCY: Import Administration, International Trade Administration, Department of Commerce.

DATES: Effective Date: October 30, 2012.

FOR FURTHER INFORMATION CONTACT: Kristen Johnson or Robert Copyak AD/CVD Operations, Office 3, Import Administration, International Trade Administration, U.S. Department of Commerce, 14th Street and Constitution Avenue NW., Washington, DC 20230; telephone: (202) 482-4793or (202) 482-2209, respectively.

SUPPLEMENTARY INFORMATION:

Background

On May 1, 2012, the Department of Commerce (the Department) published a notice of opportunity to request an administrative review of the countervailing duty order on aluminum extrusions from the People's Republic of China (PRC).¹ Pursuant to requests from interested parties, the Department published in the Federal Register the notice of initiation of this antidumping duty administrative review with respect to 67 companies for the period September 7, 2010, through December 31, 2011.²

¹ See Antidumping or Countervailing Duty Order, Finding, or Suspended Investigation; Opportunity To Request Administrative Review, 77 FR 25679 (May 1, 2012).

² See Initiation of Antidumping and Countervailing Duty Administrative Reviews and Request for Revocation in Part, 77 FR 40565 (July 10, 2012) (Initiation).

Between June and October 2012, numerous review requests were withdrawn.³

³ On June 18, 2012, Air Master Windows and Doors (Air Master) withdrew its request for review of Guangdong Foreign Trade Imp. & Exp. Corp. (GFT); on August 15, 2012, Trivantage withdrew its request for review of Activa International Inc (Activa); on August 15, 2012, Zhejiang Zhengte Group Co. Ltd. withdrew its request for review (Zhejiang Zhengte); on September 9, 2012, Foshan City Nanhai Hongjia Aluminum Alloy Co., Ltd. (Hongjia) and Tianjin Ganglv Nonferrous Metal Materials Co., Ltd. (Tianjin Ganglv) withdrew their requests for review; on September 24, 2012, Eagle Metal Distributors, Inc. withdrew its request for review of Mei Ya Bao Aluminum Co., Ltd. (MYB); on September 25, 2012, Electrolux North America, Inc., Electrolux Home Products, Inc. and Electrolux Major Appliances (collectively, “Electrolux”) withdrew its request for review of Alnan Aluminium Co., Ltd. (Alnan), Clear Sky Inc. (Clear Sky), Midea Air-Conditioning Equipment Co., Ltd. (Midea), Nidec Sankyo (Zhejang) Corporation (Nidec Sankyo Zhejang), Nidec Sankyo Singapore Pte. Ltd. (Nidec Sankyo Singapore), and Ningbo Coaster International Co., Ltd. (Ningbo Coaster); on October 4, 2012, Guangya Aluminum Industrial Co., Ltd. (Guangya Aluminum) withdrew its request for review; on October 5, 2012, Zhaoqing New Zhongya Aluminum Co., Ltd. and Guangdong Zhongya Aluminum Company Limited (collectively Zhongya) withdrew its request of review; on October 9, 2012, Newell Rubbermaid Inc. withdrew its request for review of Shanghai Dongsheng Metal (Shanghai Dongshen) and Shanghai Shen Hang Imp. & Exp. Co., Ltd. (Shanghai Shen Hang); on October 9, 2012, J.A. Hancock & Co. Inc. withdrew its request for review of Sihui Shi Guo Yao Aluminum Co., Ltd. (Sihui Shi Guo Yao).

Partial Rescission of the 2010-2011 Administrative Review

Pursuant to 19 CFR 351.213(d)(1), the Secretary will rescind an administrative review, in whole or in part, if the parties that requested a review withdraw the request within 90 days of the date of publication of the notice of initiation of the requested review. The Department initiated the instant review on July 10, 2012.⁴ As noted above, withdrawals of review requests were filed with regard to the following companies: GFT, Activa, Zhejiang Zhengte, Hongjia, Tianjin Ganglv, MYB, Alnan, Clear Sky, Midea, Nidec Sankyo Zhejang, Nidec Sankyo Sinapore, Ningbo Coaster, Guangya Aluminum, Zhongya, Shanghai Dongshen, Shanghai Shen Hang, and Sihui Shi Guo Yao. The withdrawals of review requests were submitted within the 90-day deadline set forth under 19 CFR 351.213(d)(1). Further, no other party requested an administrative review of these particular companies. Therefore, in accordance with 19 CFR 351.213(d)(1), and consistent with our practice, we are rescinding this review of the countervailing duty order on aluminum extrusions from the PRC with respect to the companies listed above.⁵ The instant review will continue with respect to all other firms for which a review was requested and initiated.

⁴ See Initiation.

⁵ See, e.g., Certain Lined Paper Products From India: Notice of Partial Rescission of Antidumping Duty Administrative Review and Extension of Time Limit for the Preliminary Results of Antidumping Duty Administrative Review, 74 FR 21781 (May 11, 2009).

Assessment

The Department will instruct U.S. Customs and Border Protection (CBP) to assess countervailing duties on all appropriate entries. For the companies for which this review is rescinded ⁶ countervailing duties shall be assessed at rates equal to the cash deposit of estimated countervailing duties required at the time of entry, or withdrawal from warehouse, for consumption, during the period September 7, 2010, through December 31, 2011, in accordance with 19 CFR 351.212(c)(1)(i).

⁶ GFT, Activa, Zhejiang Zhengte, Hongjia, Tianjin Ganglv, MYB, Alnan, Clear Sky, Midea, Nidec Sankyo Zhejang, Nidec Sankyo Sinapore, Ningbo Coaster, Guangya Aluminum, Zhongya, Shanghai Dongshen, Shanghai Shen Hang, and Sihui Shi Guo Yao,

The Department intends to issue appropriate assessment instructions directly to CBP 15 days after publication of this notice.

Notification Regarding Administrative Protective Order

This notice serves as a final reminder to parties subject to administrative protective orders (APOs) of their responsibility concerning the disposition of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: October 23, 2012
Christian Marsh,
Deputy Assistant Secretary for Antidumping and Countervailing Duty Operations.

[FR Doc. 2012-26661 Filed 10-29-12; 8:45 am]

BILLING CODE 3510-DS-P